ENVIRONMENTAL PROTECTION AGENCY

40 CFR Part 52

[EPA-R02-OAR-2024-0260; FRL 12028-01-R2]

Air Plan Approval; New York; Update to Materials Incorporated by Reference

AGENCY: Environmental Protection Agency (EPA).

ACTION: Final rule; administrative change.

SUMMARY: The Environmental Protection Agency (EPA) is updating the regulatory materials incorporated by reference into the New York State Implementation Plan (SIP). The regulations affected by this action have been previously submitted by the New York Department of Environmental Conservation (NYDEC) and approved by the EPA in prior rulemakings. The EPA is also notifying the public of corrections to the Code of Federal Regulations (CFR) tables that identify material incorporated by reference into the New York SIP. This update affects the materials that are available for public inspection at the EPA Regional Office.

DATES: This action is effective September 26, 2025.

ADDRESSES: SIP materials whose incorporated by reference into 40 CFR part 52 is finalized through this action are available for inspection at the following locations: online at https://www.regulations.gov in the docket for this action, by appointment at the Environmental Protection Agency, Region 2, 290 Broadway, New York, New York 10007-1866. For information on the availability of this material at the EPA Regional Office, please contact the person in the FOR FURTHER INFORMATION CONTACT section of this document.

FOR FURTHER INFORMATION CONTACT: Linda Longo, Air Programs Branch, Environmental Protection Agency, Region 2 Office, 290 Broadway, 25th Floor, New York, New York 10007-1866, (212) 637-3565, or by email at longo.linda@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to the EPA. Once these control measures and strategies are approved by the EPA, and after notice and comment, they are incorporated into the federally approved SIP and are identified in part 55, “Approval and Promulgation of Implementation Plans,” Title 40 of the Code of Federal Regulations (40 CFR part 52). The full text of the state regulation approved by the EPA is not reproduced in its entirety in 40 CFR part 52 but is “incorporated by reference.” This means that EPA has approved a given state regulation or specified changes to a given regulation with a specific effective date. The public is referred to the location of the full text version should they want to know which measures are contained in each SIP. The information provided allows the EPA and the public to monitor the extent to which a state implements a SIP to attain and maintain the NAAQS and to take enforcement action for violations of the SIP.

The SIP is a living document which the state can revise as necessary to address the unique air pollution problems in the state. Therefore, the EPA from time to time must take action on proposed revisions containing new and/or revised regulations. A submission from a state can revise one or more rules in their entirety or portions of rules. The state indicates the changes in the submission (such as by using redline/strikethrough text) and the EPA then takes action on the requested changes. The EPA establishes a docket for its actions using a unique Docket Identification Number, which is listed in each action. These dockets and the complete submission are available for viewing on www.regulations.gov.

On May 22, 1997 (62 FR 27968), the EPA revised the procedures for incorporating by reference, into the CFR, materials approved by the EPA into each state SIP. These changes revised the format for the identification of the SIP in 40 CFR part 52, streamlined the mechanisms for announcing the EPA approval of revisions to a SIP, and streamlined the mechanisms for the EPA's updating of the IBR information contained for each SIP in 40 CFR part 52. The revised procedures also called for the EPA to maintain “SIP Compilations” that contain the federally approved regulations and source-specific permits submitted by each state agency. The EPA generally updates these SIP Compilations on an annual basis. Under the revised procedures, the EPA must periodically publish an informational document in the rules section of the Federal Register notifying the public that updates have been made to a SIP Compilation for a particular state. The EPA began applying the 1997 revised procedures to New York on July 15, 2011, and is providing this notice in accordance with such procedures. See 76 FR 41705 (July 15, 2011).

II. EPA Action

In this action, the EPA is providing notice of an update to the materials incorporated by reference into the New York SIP as of July 21, 2025, and identified in 40 CFR 52.1670(c) and (d). This update includes SIP materials approved by the EPA since the last IBR update. See 81 FR 23167 (April 20, 2016). The EPA is providing notice of the following corrections to 40 CFR 52.1670(c) and (d):

Changes Applicable to Paragraph (c), EPA-Approved New York State Regulations and Laws

A. Revising the following:

(a) Title 6, Part 200, Subpart 200.1, General Provisions, Definitions

(b) Title 6, Part 200, Subpart 200.9, General Provisions, Referenced Material

(c) Title 6, Part 201, Subpart 201-2.1(b)(21), Permits and Registrations, Definitions

(d) Title 6, Part 202, Subpart 202-2, Emission Statements

(e) Title 6, Part 203, Oil and Natural Gas Sector

(f) Title 6, Part 205, Architectural and Industrial Maintenance (AIM) Coatings

(g) Title 6, Part 212, Process Operations

(h) Title 6, Part 219, Incinerators

(i) Title 6, Part 222, Incinerators, New York City, Nassau and Westchester Counties

(j) Title 6, Part 225, Subpart 225-1, Fuel Composition and Use-Sulfur Limitations

(k) Title 6, Part 225, Subpart 225-2, Fuel Composition and Use-Waste Oil as a Fuel

(l) Title 6, Part 226, Solvent Cleaning Processes, and Industrial Cleaning Solvents

(m) Title 6, Part 227, Subpart 227-1, Stationary Combustion Installations

(n) Title 6, Part 227, Subpart 227-3, Ozone Season Oxides of Nitrogen (NOX) Emission Limits for Simple Cycle and Regenerative Combustion Turbines

(o) Title 6, Part 230, Gasoline Dispensing Sites and Transport Vehicles

(p) Title 6, Part 231, New Source Review for New and Modified Facilities

(q) Title 6, Part 235, Consumer Products

(r) Title 6, Part 243, CSAPR NOX Ozone Season Group 2 Trading Program

(s) Title 6, Part 244, CSAPR NOX Annual Trading Program

(t) Title 6, Part 245, CSAPR SO2 Group 1 Trading Program

B. No changes to the following:

(a) Title 6, Part 200, Subpart 200.6

(b) Title 6, Part 200, Subpart 200.7

(c) Title 6, Part 201

(d) Title 6, Part 201, Subpart 201-7.1

(e) Title 6, Part 201, Subpart 201-7.2

(f) Title 6, Part 202

(g) Title 6, Part 204

(h) Title 6, Part 207

(i) Title 6, Part 211

(j) Title 6, Part 213

(k) Title 6, Part 214

(l) Title 6, Part 215

(m) Title 6, Part 216

(n) Title 6, Part 217, Subpart 217-1

(o) Title 6, Part 217, Subpart 217-4

(p) Title 6, Part 217, Subpart 217-6

(q) Title 6, Part 218, Subpart 218-1

(r) Title 6, Part 218, Subpart 218-2

(s) Title 6, Part 218, Subpart 218-3

(t) Title 6, Part 218, Subpart 218-4

(u) Title 6, Part 218, Subpart 218-5

(v) Title 6, Part 218, Subpart 218-6

(w) Title 6, Part 218, Subpart 218-7

(x) Title 6, Part 218, Subpart 218-8

(y) Title 6, Part 220

(z) Title 6, Part 223

(aa) Title 6, Part 224

(ab) Title 6, Part 225, Subpart 225-3

(ac) Title 6, Part 227, Subpart 227.2(b)(1)

(ad) Title 6, Part 227, Subpart 227-2

(ae) Title 6, Part 228

(af) Title 6, Part 229

(ag) Title 6, Part 232

(ah) Title 6, Part 233

(ai) Title 6, Part 234

(aj) Title 6, Part 236

(ak) Title 6, Part 239

(al) Title 6, Part 240, Subpart 240-1

(am) Title 6, Part 240, Subpart 240-2

(an) Title 6, Part 240, Subpart 240-3

(ao) Title 6, Part 241

(ap) Title 6, Part 249

(aq) Title 15, Part 79, Subparts 79.1-79.15, 79.17, 79.20, 79.21, 79.24, 79.25

(ar) Title 19, Part 937

(as) Section 19-0325

(at) Section 73-a

C. Moving “EPA approval finalized at” from EPA Approval Date to Comments for the following:

(a) Title 6, Part 227, Subpart 227-3; EPA approval finalized at 86 FR 43956

D: Adding “EPA approval finalized at” to Comments for the following:

(a) Title 6, Part 226, EPA approval finalized at 85 FR 28490.

Changes Applicable to Paragraph (d), EPA-Approved New York Source- Specific Provisions

A. Adding the following:

(a) Danskammer Energy LLC, Danskammer Generating Station

(b) Roseton Generating Station

(c) Finch Paper LLC

(d) Sylvamo Ticonderoga Mill

(e) Knowlton Technologies LLC

(f) Lehigh Cement Company LLC

B. No changes to the following:

(a) Dunlop Tire and Rubber Corporation

(b) Dunlop Tire and Rubber Corporation

(c) Dunlop Tire and Rubber Corporation

(d) Morton International Inc.

(e) Morton International Inc.

(f) University of Rochester

(g) University of Rochester

(h) Algonquin Gas Transmission Company

(i) Algonquin Gas Transmission Company

(j) Algonquin Gas Transmission Company

(k) Algonquin Gas Transmission Company

(l) Tenneco Gas Corporation's (also known as Tenneco Gas Pipeline Company and Tennessee Gas Pipeline Company); 144000

(m) Tenneco Gas Corporation's (also known as Tenneco Gas Pipeline Company and Tennessee Gas Pipeline Company); 215600, Special Conditions

(n) Tenneco Gas Corporation's (also known as Tenneco Gas Pipeline Company and Tennessee Gas Pipeline Company); 102600

(o) Tenneco Gas Corporation's (also known as Tenneco Gas Pipeline Company and Tennessee Gas Pipeline Company); 102600, Special Conditions

(p) General Chemical Corporation

(q) ALCOA Massena Operations (West Plant)

(r) Arthur Kill Generating Station, NRG

(s) Bowline Generating Station, GenOn

(t) Con Edison 59th Street Station

(u) EF Barrett Power Station, NG

(v) International Paper Ticonderoga Mill

(w) Kodak Operations at Eastman Business Park, Kodak

(x) Lafarge Building Materials

(y) Lehigh Northeast Cement, Lehigh Cement

(z) Northport Power Station, NG

(aa) Oswego Harbor Power, NRG

(ab) Owens-Corning Insulating Systems Feura Bush, Owens Corning

(ac) Ravenswood Generating Station, TC

(ad) Ravenswood Steam Plant, Con Edison

(ae) Roseton Generating Station

(af) Samuel A Carlson Generating Station, James town Board of Public Utilities

(ag) Syracuse Energy Corporation [GDF Suez]

C. Moving “EPA approval finalized at” from EPA Approval Date to Comments for the following:

(a) Sylvamo Ticonderoga Mill; EPA approval finalized at 89 FR 76740

(b) Knowlton Technologies LLC; EPA approval finalized at 90 FR 13414

(c) Lehigh Cement Company LLC; EPA approval finalized at 90 FR 14581

D. Adding “EPA approval finalized at” to Comments for the following:

(a) Roseton Generating Station; EPA approval finalized at 83 FR 6970

(b) Danskammer Energy LLC, Danskammer Generating Station; EPA approval finalized at 82 FR 57126

(c) Finch Paper LLC; EPA approval finalized at 89 FR 42810

E. Correcting sequential order for “EPA approval date” for the following:

(a) Roseton Generating Station EPA approval date 2/16/2018 row relocate to after Danskammer Energy LLC, Danskammer Generating Station EPA approval date 12/4/2017

III. Good Cause Exemption

The EPA has determined that this action falls under the “good cause” exemption in section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs, makes typographical/ministerial revisions to the tables in the CFR, and makes ministerial changes to the prefatory heading to the tables in the CFR. Under section 553(b)(3)(B) of the APA, an agency may find good cause where procedures are “impracticable, unnecessary, or contrary to the public interest.” Public comment for this administrative action is “unnecessary” and “contrary to the public interest” since the codification (and corrections) only reflect existing law. Immediate notice of this action in the Federal Register benefits the public by providing the public notice of the updated New York SIP Compilation and notice of corrections to the New York “Identification of Plan” portion of the CFR. Further, pursuant to section 553(d)(3), making this action immediately effective benefits the public by immediately updating both the SIP Compilation and the CFR “Identification of plan” section (which includes table entry corrections).

IV. Incorporated by Reference

In this rule, the EPA is finalizing regulatory text that includes incorporation by reference. In accordance with requirements of 1 CFR 51.5, the EPA is finalizing the incorporation by reference of regulations promulgated by New York, previously approved by the EPA and federally effective before July 21, 2025, contained in New York SIP Compilation. The EPA has made, and will continue to make, these materials generally available through www.regulations.gov and at the EPA Region 2 Office (please contact the person identified in the FOR FURTHER INFORMATION CONTACT section of this preamble for more information).

V. Statutory and Executive Order Review

Under the Clean Air Act, the Administrator is required to approve a SIP submission that complies with the provisions of the Act and applicable Federal regulations. 42 U.S.C. 7410(k); 40 CFR 52.02(a). Thus, in reviewing SIP submissions, the EPA's role is to approve State choices, provided that they meet the criteria of the Clean Air Act. Accordingly, this final rule and notification of administrative change does not impose additional requirements beyond those imposed by the State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications, and it will not impose substantial direct costs on tribal governments or preempt Tribal law as specified by Executive Order 13175 (65 FR 67249, November 9, 2000).

This action is subject to the Congressional Review Act, and the EPA will submit a rule report to each House of the Congress and the Comptroller General of the United States. This action is not a “major rule” as defined by 5 U.S.C. 804(2).

Under section 307(b)(1) of the Clean Air Act, petitions for judicial review of this action must be filed in the United States Court of Appeals for the appropriate circuit by November 25, 2025. Filing a petition for reconsideration by the Administrator of this final rule does not affect the finality of this action for the purposes of judicial review nor does it extend the time within which a petition for judicial review may be filed and shall not postpone the effectiveness of such rule or action. This action may not be challenged later in proceedings to enforce its requirements. (See section 307(b)(2)).

List of Subjects in 40 CFR Part 52

Environmental protection, Air pollution control, Incorporation by reference.

Authority: 42 U.S.C. 7401 et seq.

Michael Martucci,
Regional Administrator, Region 2.

40 CFR part 52 is amended as follows:

PART 52—APPROVAL AND PROMULGATION OF IMPLEMENTATION PLANS

1. The authority citation for part 52 continues to read as follows:

Authority: 42 U.S.C. 7401 et seq.

Subpart HH—New York

2. In § 52.1670, paragraphs (b), (c), and (d) are revised to read as follows:

§ 52.1670 Identification of plan.

* * * * *

(b) Incorporation by reference. (1) Material listed in paragraphs (c) and (d) of this section with an EPA approval date prior to July 21, 2025, was approved for incorporation by reference by the Director of the Federal Register in accordance with 5 U.S.C. 552(a) and 1 CFR part 51. Material is incorporated as it exists on the date of the approval and notification of any change in the material will be published in the Federal Register. Entries in paragraphs (c) and (d) of this section with the EPA approval dates after July 21, 2025, have been approved by EPA for inclusion in the State implementation plan and for incorporation by reference into the plan as it is contained in this section, and will be considered by the Director of the Federal Register for approval in the next update to the SIP compilation.

(2) EPA Region 2 certifies that the materials provided by EPA at the addresses in paragraph (b)(3) of this section are an exact duplicate of the officially promulgated state rules/regulations which have been approved as part of the state implementation plan as of the dates referenced in paragraph (b)(1) of this section.

(3) Copies of the materials incorporated by reference into the state implementation plan may be inspected at the Environmental Protection Agency, Region 2, Air Programs Branch, 290 Broadway, New York, New York 10007. To obtain the material, please call the Regional Office. You may view material with an approval date as of July 21, 2025, at the National Archives and Records Administration (NARA). For information on the availability of this material at NARA, visit www.archives.gov/federal-register/cfr/ibr-locations or email fr.inspection@nara.gov.

(c) EPA approved regulations.

EPA-Approved New York State Regulations and Laws
State citation | Title/subject | State effective date | EPA approval date | Comments
Title 6, Part 200, Subpart 200.1 | General Provisions, Definitions | 2/25/2021 | 10/1/2021 | • EPA is approving definitions that are not already federally enforceable. • EPA approval finalized at 86 FR 54375.
Title 6, Part 200, Subpart 200.6 | General Provisions, Acceptable ambient air quality | 2/25/2000 | 4/22/2008 | • EPA approval finalized at 73 FR 21548.
Title 6, Part 200, Subpart 200.7 | General Provisions, Maintenance of equipment | 2/25/2000 | 4/22/2008 | • EPA approval finalized at 73 FR 21548.
Title 6, Part 200, Subpart 200.9 | General Provisions, Referenced material | 3/18/2022 | 8/25/2022 | • EPA is approving referenced materials that previously were not Federally enforceable. • EPA approval finalized at 87 FR 52337.
Title 6, Part 201 | Permits and Registrations | 4/4/1993 | 10/3/2005 | • This action removes subpart 201.5(e) from the State's Federally approved SIP. • EPA approval finalized at 70 FR 57511.
Title 6, Part 201, Subpart 201-2.1(b)(21) | Permits and Registrations, Definitions | 10/15/2011 | 12/27/2016 | EPA is including the definition of “Major stationary source or major source or major facility” with the understanding that the definition applies only to provisions of Part 231. Revisions are approved except for changes to the definitions in 201-2.1(b)(21)(i) and 201-2.1(b)(21)(v) withdrawn by NYSDEC as per July 28, 2016 letter to EPA Region 2. EPA approval finalized at 81 FR 95049.
Title 6, Part 201, Subpart 201-7.1 | Permits and Registrations, Federally Enforceable Emission Caps | 7/7/1996 | 10/3/2005 | • EPA approval finalized at 70 FR 57511.
Title 6, Part 201, Subpart 201-7.2 | Permits and Registrations, Emission Capping Using Synthetic Minor Permits | 7/7/1996 | 10/3/2005 | • EPA approval finalized at 70 FR 57511.
Title 6, Part 202 | Emissions Testing, Sampling and Analytical Determinations | 3/24/1979 | 11/12/1981 | • EPA approval finalized at 46 FR 55690.
Title 6, Part 202, Subpart 202-2 | Emission Statements | 12/18/2020 | 12/28/2023 | • EPA approval finalized at 88 FR 89593.
Title 6, Part 203 | Oil and Natural Gas Sector | 3/18/2022 | 8/25/2022 | • EPA approval finalized at 87 FR 52337.
Title 6, Part 204 | NOX Budget Trading Program | 2/25/2000 | 5/22/2001 | • Incorporates NOX SIP Call and NOX Budget Trading Program for 2003 and thereafter. • EPA approval finalized at 66 FR 28063.
Title 6, Part 205 | Architectural and Industrial Maintenance Coatings | 1/11/2022 | 10/3/2022 | • EPA approval finalized at 87 FR 59695.
Title 6, Part 207 | Control Measures for an Air Pollution Episode | 2/22/1979 | 11/12/1981 | • EPA approval finalized at 46 FR 55690.
Title 6, Part 211 | General Prohibitions | 1/1/2011 | 3/8/2012 | • Section 211.1 (previously numbered 211.2) is not part of the approved plan. (see 11/27/1998, 63 FR 65559). • EPA approval finalized at 77 FR 13974.
Title 6, Part 212 | Process Operations | 2/25/2021 | 10/1/2021 | • EPA approval finalized at 86 FR 54375.
Title 6, Part 213 | Contaminant Emissions from Ferrous Jobbing Foundries | 5/1/1972 | 9/22/1972 | • EPA approval finalized at 37 FR 19814.
Title 6, Part 214 | By-Product Coke Oven Batteries | 9/22/1994 | 7/20/2006 | • EPA approval finalized at 71 FR 41163.
Title 6, Part 215 | Open Fires | 6/16/1972 | 9/22/1972 | • EPA approval finalized at 37 FR 19814.
Title 6, Part 216 | Iron and/or Steel Processes | 9/22/1994 | 7/20/2006 | • EPA approval finalized at 71 FR 41163.
Title 6, Part 217, Subpart 217-1 | Motor Vehicle Emissions, Motor Vehicle Enhanced Inspection and Maintenance Program Requirements Until December 31, 2010 | 12/5/2010 | 2/28/2012 | • EPA approval finalized at 77 FR 11742.
Title 6, Part 217, Subpart 217-4 | Motor Vehicle Emissions, Inspection and Maintenance Program Audits Until December 31, 2010 | 12/5/2010 | 2/28/2012 | • EPA approval finalized at 77 FR 11742.
Title 6, Part 217, Subpart 217-6 | Motor Vehicle Emissions, Motor Vehicle Enhanced Inspection and Maintenance Program Requirements Beginning January 1, 2011 | 12/5/2010 | 2/28/2012 | • EPA approval finalized at 77 FR 11742.
Title 6, Part 218, Subpart 218-1 | Emission Standards for Motor Vehicles and Motor Vehicle Engines, Applicability and Definitions | 12/28/2000 | 1/31/2005 | • EPA's approval of part 218 only applies to light-duty vehicles. • EPA approval finalized at 70 FR 4773.
Title 6, Part 218, Subpart 218-2 | Emission Standards for Motor Vehicles and Motor Vehicle Engines, Certification and Prohibitions | 12/28/2000 | 1/31/2005 | • EPA's approval of part 218 only applies to light-duty vehicles. • EPA approval finalized at 70 FR 4773.
Title 6, Part 218, Subpart 218-3 | Emission Standards for Motor Vehicles and Motor Vehicle Engines, Fleet Average | 12/28/2000 | 1/31/2005 | • EPA's approval of part 218 only applies to light-duty vehicles. • EPA approval finalized at 70 FR 4773.
Title 6, Part 218, Subpart 218-4 | Emission Standards for Motor Vehicles and Motor Vehicle Engines, Zero Emissions Vehicle Sales Mandate | 5/28/1992 | 1/6/1995 | • EPA's approval of part 218 only applies to light-duty vehicles. • EPA approval finalized at 60 FR 2025.
Title 6, Part 218, Subpart 218-5 | Emission Standards for Motor Vehicles and Motor Vehicle Engines, Testing | 12/28/2000 | 1/31/2005 | • EPA's approval of part 218 only applies to light-duty vehicles. • EPA approval finalized at 70 FR 4773.
Title 6, Part 218, Subpart 218-6 | Emission Standards for Motor Vehicles and Motor Surveillance | 12/28/2000 | 1/31/2005 | • EPA's approval of part 218 only applies to light-duty vehicles. • EPA approval finalized at 70 FR 4773.
Title 6, Part 218, Subpart 218-7 | Emission Standards for Motor Vehicles and Motor Vehicle Engines, Aftermarket Parts | 12/28/2000 | 1/31/2005 | • EPA's approval of part 218 only applies to light-duty vehicles. • EPA approval finalized at 70 FR 4773.
Title 6, Part 218, Subpart 218-8 | Emission Standards for Motor Vehicles and Motor Vehicle Engines, Severability | 12/28/2000 | 1/31/2005 | • EPA's approval of part 218 only applies to light-duty vehicles. • EPA approval finalized at 70 FR 4773.
Title 6, Part 219 | Incinerators | 3/14/2020 | 6/2/2022 | • EPA approval finalized at 87 FR 33438.
Title 6, Part 220 | Portland Cement Plants and Glass Plants | 7/11/2010 | 7/12/2013 | • SIP revisions submitted in accordance with § 220-1.6(b)(4) and 220-2.3(a)(4) are effective only if approved by EPA. • EPA approval finalized at 78 FR 41846.
Title 6, Part 222 | Distributed Generation Sources | 3/25/2020 | 6/2/2022 | • EPA approval finalized at 87 FR 33438.
Title 6, Part 223 | Petroleum Refineries | 8/9/1984 | 7/19/1985 | • EPA approval finalized at 50 FR 29382.
Title 6, Part 224 | Sulfuric and Nitric Acid Plants | 5/10/1984 | 7/19/1985 | • Variances adopted by the State pursuant to Part 224.6(b) become applicable only if approved by EPA as SIP revisions. • EPA approval finalized at 50 FR 29382.
Title 6, Part 225, Subpart 225-1 | Fuel Composition and Use-Sulfur Limitations | 2/4/2021 | 6/20/2025 | • EPA approval finalized at 90 FR 26209.
Title 6, Part 225, Subpart 225-2 | Fuel Composition and Use-Waste Oil as a Fuel | 4/2/2020 | 6/20/2025 | • EPA approval finalized at 90 FR 26209.
Title 6, Part 225, Subpart 225-3 | Fuel Composition and Use-Gasoline | 11/4/2001 | 9/8/2005 | • The Variance adopted by the State pursuant to section 225-3.5 becomes applicable only if approved by EPA as a SIP revision. • EPA approval finalized at 70 FR 53304.
Title 6, Part 226 | Solvent Cleaning Processes and Industrial Cleaning Solvents | 11/1/2019 | 5/13/2020 | EPA approval finalized at 85 FR 28490.
Title 6, Part 227, Subpart 227.2(b)(1) | Stationary Combustion Installations | 5/1/1972 | 9/22/1972 | • 1972 version. • EPA approval finalized at 37 FR 19814.
Title 6, Part 227, Subpart 227-1 | Stationary Combustion Installations | 2/25/2021 | 6/5/2023 | • EPA approved finalized at 6/5/2023, 88 FR 36481.
Title 6, Part 227, Subpart 227-2 | Stationary Combustion Installations, Reasonably Available Control Technology (RACT) For Major Facilities of Oxides of Nitrogen (NOX) | 7/8/2010 | 7/12/2013 | • SIP revisions submitted in accordance with § 227-2.3(c) are effective only if approved by EPA. • EPA approval finalized at 78 FR 41846.
Title 6, Part 227, Subpart 227-3 | Ozone Season Oxides of Nitrogen (NOx) Emission Limits for Simple Cycle and Regenerative Combustion Turbines | 1/16/2020 | 8/11/2021 | • EPA approval finalized at 86 FR 43956.
Title 6, Part 228 | Surface Coating Processes, Commercial and Industrial Adhesives, Sealants and Primers | 6/5/2013 | 3/4/2014 | • EPA approval finalized at 79 FR 12082.
Title 6, Part 229 | Petroleum and Volatile Organic Liquid Storage and Transfer | 4/4/1993 | 12/23/1997 | • SIP revisions submitted in accordance with Section 229.3(g)(1) are effective only if approved by EPA. • EPA approval finalized at 62 FR 67006.
Title 6, Part 230 | Gasoline Dispensing Sites and Transport Vehicles | 2/12/2021 | 2/9/2023 | EPA approval finalized at 88 FR 8371.
Title 6, Part 231 | New Source Review for New and Modified Facilities | 10/15/2011 | 12/27/2016 | Full approval except for certain revisions to 231-5.5(b)(3), 231-6.6(b)(3), 231-10.1(d), 231-12.4(a)(1), 231-12.7, and 231-13.5 Table 5 withdrawn by NYSDEC as per July 28, 2016 NYSDEC letter to EPA Region 2. The PM2.5 Significant Monitoring Concentration (SMC) is approved as 0 µg/m3 in 231-12.4(a)(1). EPA approval finalized at 81 FR 95049.
Title 6, Part 232 | Dry Cleaning | 8/11/1983 | 6/17/1985 | • EPA has not determined that § 232.3(a) provides for reasonably available control technology. • EPA approval finalized at 50 FR 25079.
Title 6, Part 233 | Pharmaceutical and Cosmetic Manufacturing Processes | 4/4/1993 | 12/23/1997 | • SIP revisions submitted in accordance with Section 223.3(h)(1) are effective only if approved by EPA. • EPA approval finalized at 62 FR 67006.
Title 6, Part 234 | Graphic Arts | 7/8/2010 | 3/8/2012 | • SIP revisions submitted in accordance with § 234.3(f) are effective only if approved by EPA. • EPA approval finalized at 77 FR 13974.
Title 6, Part 235 | Consumer Products | 2/11/2021 | 9/16/2022 | • EPA approval finalized at 87 FR 56893.
Title 6, Part 236 | Synthetic Organic Chemical Manufacturing Facility Component Leaks | 1/12/1992 | 7/27/1993 | • Variances adopted by the State pursuant to Part 236.6(e)(3) become applicable only if approved by EPA as a SIP revision. • EPA approval finalized at 58 FR 40059.
Title 6, Part 239 | Portable Fuel Container Spillage Control | 7/30/2009 | 5/28/2010 | • The specific application of provisions associated with alternate test methods, variances and innovative products, must be submitted to EPA as SIP revisions. • EPA approval finalized at 75 FR 29897.
Title 6, Part 240, Subpart 240-1 | Transportation Conformity, Transportation Conformity General Provisions | 9/13/2013 | 7/29/2014 | • EPA approval finalized at 79 FR 43945.
Title 6, Part 240, Subpart 240-2 | Transportation Conformity, Consultation | 9/13/2013 | 7/29/2014 | • EPA approval finalized at 79 FR 43945.
Title 6, Part 240, Subpart 240-3 | Transportation Conformity, Regional Transportation-Related Emissions and Enforceability | 9/13/2013 | 7/29/2014 | • EPA approval finalized at 79 FR 43945.
Title 6, Part 241 | Asphalt Pavement and Asphalt Based Surface Coating | 1/1/2011 | 3/8/2012 | • EPA approval finalized at 77 FR 13974.
Title 6, Part 243 | CSAPR NOX Ozone Season Group 2 Trading Program | 1/2/2019 | 8/8/2019 | • EPA approval finalized at 84 FR 38878.
Title 6, Part 244 | CSAPR NOX Annual Trading Program | 1/2/2019 | 8/8/2019 | • EPA approval finalized at 84 FR 38878.
Title 6, Part 245 | CSAPR SO2 Group 1 Trading Program | 1/2/2019 | 8/8/2019 | • EPA approval finalized at 84 FR 38878.
Title 6, Part 249 | Best Available Retrofit Technology (BART) | 5/6/2010 | 8/28/2012 | • EPA approval finalized at 77 FR 51915.
Title 15, Part 79, Subparts 79.1-79.15, 79.17, 79.20, 79.21, 79.24, 79.25 | Motor Vehicle Inspection Regulations | 12/29/2010 | 2/28/2012 | • EPA approval finalized at 77 FR 11742.
Title 19, Part 937 | Access To Publicly Available Records | 8/27/2012 | 6/20/2013 | • Only subpart 937.1(a) is approved into the SIP and is for the limited purpose of satisfying Clean Air Act Section 128(a)(2). • EPA approval finalized at 78 FR 37124.
Section 19-0325 | Environmental Conservation Law, Sulfur reduction requirements | 7/15/2010 | 8/28/2012 | • EPA approval finalized at 77 FR 51915.
Section 73-a | Public Officers Law, Financial disclosure | 8/15/2011 | 6/20/2013 | • Only subsections 73-a(2)(a)(i) and (ii) are approved into the SIP and are for the limited purpose of satisfying Clean Air Act Section 128(a)(2). • EPA approval finalized at 78 FR 37124.

(d) EPA approved State source-specific requirements.

EPA-Approved New York Source-Specific Provisions
Name of source | Identifier No. | State effective date | EPA approval date | Comments
Dunlop Tire and Rubber Corporation | Consent Order 81-36, 9-0420 | 8/19/1981 | 1/26/1984 | • Part 212 VOC RACT Compliance Plan. • Green tire spraying, bead dipping, and under tread and tread end cementing processes. • EPA approval finalized at 49 FR 3436.
Dunlop Tire and Rubber Corporation | Consent Order 81-36, 9-0420, Amendment Letter 1 | 1/29/1982 | 1/26/1984 | • Part 212 VOC RACT Compliance Plan. • Green tire spraying, bead dipping, and under tread and tread end cementing processes. • EPA approval finalized at 49 FR 3436.
Dunlop Tire and Rubber Corporation | Consent Order 81-36, 9-0420, Amendment Letter 2 | 3/3/1982 | 1/26/1984 | • Part 212 VOC RACT Compliance Plan. • Green tire spraying, bead dipping, and under tread and tread end cementing processes. • EPA approval finalized at 49 FR 3436.
Morton International Inc | A563203003500027C | 9/1/1995 | 9/23/1997 | • Part 227-2, NOX RACT determination. • Emission point 00027. • EPA approval finalized at 62 FR 49617.
Morton International Inc | A563203003500027C, Special Conditions | 8/23/1995 | 9/23/1997 | • Part 227-2, NOX RACT determination. • Emission point 00027. • EPA approval finalized at 62 FR 49617.
University of Rochester | 8-2614-00548/00006-0 | 4/25/1996 | 9/23/1997 | • Part 227-2, NOX RACT determination. • Emission points 00003 and 0005. • EPA approval finalized at 62 FR 49617.
University of Rochester | 8-2614-00548/00006-0, Special Conditions | 3/19/1996 | 9/23/1997 | • Part 227-2, NOX RACT determination. • Emission points 00003 and 0005. • EPA approval finalized at 62 FR 49617.
Algonquin Gas Transmission Company | 3-3928-1/9-0 | 9/23/1991 | 9/23/1997 | • Part 227-2, NOX RACT determination. • Emission Points R0100, R0200, R0300, and R0400. • Permit and Special Conditions. • EPA approval finalized at 62 FR 49617.
Algonquin Gas Transmission Company | 3-3928, Special Conditions | 3/18/1996 | 9/23/1997 | • Part 227-2, NOX RACT determination. • Emission Points R0100, R0200, R0300. • EPA approval finalized at 62 FR 49617.
Algonquin Gas Transmission Company | 3-3928-00001/00013 | 3/29/1996 | 9/23/1997 | • Part 227-2, NOX RACT determination. • Emission Point R0400. • EPA approval finalized at 62 FR 49617.
Algonquin Gas Transmission Company | 3-39228-00001/00010,11,12,13 | 8/8/1996 | 9/23/1997 | • Permit Correction. • Part 227-2, NOX RACT determination. • Emission Points R0100, R0200, R0300, and R0400. • EPA approval finalized at 62 FR 49617.
Tenneco Gas Corporation's (also known as Tenneco Gas Pipeline Company and Tennessee Gas Pipeline Company) | 144000 | 8/22/1995 | 7/21/2003 | • Part 227-2, NOX RACT determination. • Compressor Station 229. • Emission Points 0001A through 0006A. • EPA approval finalized at 68 FR 42981.
Tenneco Gas Corporation's (also known as Tenneco Gas Pipeline Company and Tennessee Gas Pipeline Company) | 215600, Special Conditions | 2/24/1997 | 7/21/2003 | • Part 227-2, NOX RACT determination. • Compressor Station 245. • Emission Points 00001 through 00006. • EPA approval finalized at 68 FR 42981.
Tenneco Gas Corporation's (also known as Tenneco Gas Pipeline Company and Tennessee Gas Pipeline Company) | 102600 | 10/4/1995 | 7/21/2003 | • Part 227-2, NOX RACT determination. • Compressor Station 254. • Emission Points 00001 through 00006. • EPA approval finalized at 68 FR 42981.
Tenneco Gas Corporation's (also known as Tenneco Gas Pipeline Company and Tennessee Gas Pipeline Company) | 102600,Special Conditions | 9/15/1995 | 7/21/2003 | • Part 227-2, NOX RACT determination. • Compressor Station 254. • Emission Points 00001 through 00006. • EPA approval finalized at 68 FR 42981.
General Chemical Corporation | 7-3132-00009/00012 | 12/16/1997 | 7/1/2004 | • Part 212, NOX RACT determination. 6/23/05 letter informing NYSDEC that the approval will automatically convert to a disapproval. • Emission Points 0SN1A and 0SN1B. • EPA approval finalized at 69 FR 39858.
ALCOA Massena Operations (West Plant) | 6-4058-00003 | 3/20/2012 | 8/28/2012 | • Part 249 BART. • Emission Points Potline S-00001, Baking furnace S-00002, Package Boilers B-00001. • EPA approval finalized at 77 FR 51915.
Arthur Kill Generating Station, NRG | 2-6403-00014 | 3/20/2012 | 8/28/2012 | • Part 249 BART. • Boiler 30. • EPA approval finalized at 77 FR 51915.
Bowline Generating Station, GenOn | 3-3922-00003 | 6/28/2012 | 8/28/2012 | • Part 249 BART. • Boilers 1 and 2. • EPA approval finalized at 77 FR 51915.
Con Edison 59th Street Station | 2-6202-00032 | 3/20/2012 | 8/28/2012 | • Part 249 BART. • Steam Boilers 114 and 115. • EPA approval finalized at 77 FR 51915.
EF Barrett Power Station, NG | 1-2820-00553 | 3/27/2012 | 8/28/2012 | • Part 249 BART. • Boiler 2. • EPA approval finalized at 77 FR 51915.
International Paper Ticonderoga Mill | 5-1548-00008 | 3/19/2012 | 8/28/2012 | • Part 249 BART. • Power Boiler and Recovery Furnace. • EPA approval finalized at 77 FR 51915.
Kodak Operations at Eastman Business Park, Kodak | 8-2614-00205 | 5/25/2012 | 8/28/2012 | • Part 249 BART. • Boilers 41, 42 and 43. • EPA approval finalized at 77 FR 51915.
Lafarge Building Materials | 4-0124-00001 | 7/19/2011 | 8/28/2012 | • Condition 12-14. • Kilns 1 and 2. • EPA approval finalized at 77 FR 51915.
Lehigh Northeast Cement, Lehigh Cement | 5-5205-00013 | 7/5/2012 | 8/28/2012 | • Part 220 and Part 249 BART. • Kiln and Clinker cooler. • EPA approval finalized at 77 FR 51915.
Northport Power Station, NG | 1-4726-00130 | 3/27/2012 | 8/28/2012 | • Part 249 BART. • Boilers 1, 2, 3, and 4. • EPA approval finalized at 77 FR 51915.
Oswego Harbor Power, NRG | 7-3512-00030 | 5/16/2012 | 8/28/2012 | • Part 249 BART. • Boilers 5 and 6. • EPA approval finalized at 77 FR 51915.
Owens-Corning Insulating Systems Feura Bush, Owens Corning | 4-0122-00004 | 5/18/2012 | 8/28/2012 | • Part 249 BART. • EU2, EU3, EU12, EU13, and EU14. • EPA approval finalized at 77 FR 51915.
Ravenswood Generating Station, TC | 2-6304-00024 | 4/6/2012 | 8/28/2012 | • Part 249 BART. • Boilers 10, 20, 30. • EPA approval finalized at 77 FR 51915.
Ravenswood Steam Plant, Con Edison | 2-6304-01378 | 3/20/2012 | 8/28/2012, | • Part 249 BART. • Boiler 2. • EPA approval finalized at 77 FR 51915.
Samuel A Carlson Generating Station, James town Board of Public Utilities | 9-0608-00053 | 2/8/2012 | 8/28/2012 | • Part 249 BART. • Boiler 12. • EPA approval finalized at 77 FR 51915.
Syracuse Energy Corporation [GDF Suez] | 7-3132-00052 | 5/24/2012 | 8/28/2012 | • Part 249 BART. • Boiler 1. • EPA approval finalized at 77 FR 51915.
Danskammer Energy LLC, Danskammer Generating Station | NYSDEC Facility No. 33346000011 | 2/25/2015 | 12/4/2017 | • Best Available Retrofit Technology (BART) emission limits for NOX, SO2, and PM pursuant to 6 NYCRR part 249 for Unit 4 and the requirement to combust only natural gas. • EPA approval finalized at 82 FR 57126.
Roseton Generating Station | NYSDEC Facility No. 33346000075 | 12/5/2016 | 2/16/2018 | • Best Available Retrofit Technology (BART) emission limits for SO2 pursuant to 6 NYCRR part 249 for Units 1 and 2. • EPA approval finalized at 83 FR 6970.
Finch Paper LLC | 5-5205-00005/00059 Mod 1 | 1/12/2022 | 5/16/2024 | • RACT emission limits for condition 1-1, condition 47, and condition 60. • EPA approval finalized at 89 FR 42810.
Sylvamo Ticonderoga Mill | 5-1548-00008/00081 | 11/23/2022 | 9/19/2024, | • RACT emission limits for condition 52, 78, and 85. • EPA approval finalized at 89 FR 76740.
Knowlton Technologies LLC | 6-2218-00017-00009 | 12/27/2022 | 3/24/2025, | • RACT emission limits for condition 32, emission unit 1-TANKS. • EPA approval finalized at 90 FR 13414.
Lehigh Cement Company LLC | 5-5205-00013/00058 | 7/11/2010 | 4/3/2025, | • RACT emission limit for conditions 85 and 86, emission unit 0-UKILN. • EPA approval finalized at 90 FR 14581.

* * * * *

[FR Doc. 2025-18690 Filed 9-25-25; 8:45 am]

BILLING CODE 6560-50-P